DEPARTMENT OF THE INTERIOR

Fish and Wildlife Service

Endangered and Threatened Wildlife and Plants: Draft Post-Delisting Monitoring Plan for the Virginia Northern Flying Squirrel (Glaucomys sabrinus fuscus)

AGENCY: Fish and Wildlife Service, Interior.

ACTION: Notice of Availability of Draft Post-delisting Monitoring Plan; Request for Comments.

SUMMARY: We, the U.S. Fish and Wildlife Service (Service), announce the availability of the draft post-delisting monitoring plan (draft PDM Plan) for the Virginia northern flying squirrel (Glaucomys sabrinus fuscus), currently referred to as the West Virginia northern flying squirrel (WVNFS). The Endangered Species Act (ESA) requires that the Service implement a system, in cooperation with the States, to monitor effectively, for at least 5 years, the status of all species that have been recovered and no longer need protection of the ESA. The WVNFS has been proposed to be removed from the Federal List of Threatened and Endangered Wildlife and Plants (delisted) due to recovery.

DATES: Comments from all interested parties on the WVNFS draft PDM Plan must be received on or before November 8, 2007.

ADDRESSES: The draft PDM Plan may be downloaded from our Web site at http://www.fws.gov/northeast/endangered/. To request a copy of the draft PDM Plan, write to our West Virginia Field Office; U.S. Fish and Wildlife Service, 694 Beverly Pike, Elkins, West Virginia 26241; or call 304-636-6586 to receive a copy. You may also send an electronic mail request to laura_hill@fws.gov. Specify whether you want to receive a hard copy by U.S. mail or an electronic copy by electronic mail.

Send your comments by any of the following methods. See “Viewing Documents” and “Public Comments Solicited” under SUPPLEMENTARY INFORMATION for important information.

• Mail: WVNFS Draft PDM Plan Comments, U.S. Fish and Wildlife Service, West Virginia Field Office, 694 Beverly Pike, Elkins, West Virginia 26241.

• Hand Delivery/Courier: Same address as above.

• Electronic mail: laura_hill@fws.gov. Include “WVNFS Draft PDM Plan Comments” in the subject line of the message.

• Facsimile: 304-636-7824. Include “WVNFS Draft PDM Plan Comments” in the subject line.

• Federal eRulemaking Portal: http://www.regulations.gov. Follow the instructions for submitting comments.

FOR FURTHER INFORMATION CONTACT: Direct all questions or requests for additional information about the draft PDM Plan to Laura Hill (see ADDRESSES). Individuals who are hearing impaired or speech impaired may call the Federal Relay Service at 1-800-877-8337 for TTY assistance, 24 hours a day 7 days a week.

SUPPLEMENTARY INFORMATION:

Background

We published the proposed rule to remove the WVNFS, due to recovery, from the Federal List of Threatened and endangered Wildlife on December 19, 2006 with a 120-day comment period that closed on April 23, 2007. Recovery actions have resulted in reduction in the threats, which has led to: (1) A significant increase in the number of known WVNFS capture sites: (2) multiple generation reproduction; (3) the proven resiliency of the squirrels; and (4) the vast improvement and continued expansion of suitable habitat. We are currently reviewing the comments received on the proposed rule and preparing responses as appropriate.

Section 4(g)(1) of the ESA requires that we implement a system, in cooperation with the States, to effectively monitor, for not less than 5 years, the status of all species that have been recovered and delisted. Additionally, we are to make prompt use of the emergency listing authority under section 4(b)(7) of the ESA if the recovered species is presented with significant risk to its well being. In order to meet the ESA's monitoring requirement, and to facilitate the efficient collection of data, we have designed a plan to detect changes in the status of the WVNFS.

The WVNFS draft PDM Plan was developed in cooperation with the State resources agencies of West Virginia and Virginia and Virginia and the U.S. Forest Service. Our West Virginia Field Office (WVFO) will have the lead agency responsibility for this monitoring effort, and will coordinate all phases of implementation of the plan and ensure that monitoring requirements outlined within the plan are accomplished. The draft PDM Plan proposes to conduct monitoring annually for at least 10 years. The primary focus will be on WVNFS habitat and implementation of plans or agreements to protect and manage habitat. Distribution and persistency throughout its range will also be monitored.

Viewing Documents

The supporting documents for the draft PDM Plan is available for inspection, by appointment, during normal business hours at our WVFO (see ADDRESSES). The comments and materials we receive on the monitoring plan during the comment period will be available for public inspection by appointment during normal business hours at the WVFO, 304-636-6586. Please call to make arrangements to view documents.

Public Comments Solicited

We request comments on the WVNFS draft PDM Plan. All comments received by the date specified above will be considered during preparation of the final PDM Plan. We will take into consideration the relevant comments, suggestions, or objections that we receive by the comment due date indicated above in the DATES section. These comments, suggestions, or objections, and any additional information received, may lead us to adopt a final PDM Plan that differs from this draft PDM Plan. Comments merely stating support or opposition to the draft PDM Plan without providing supporting data are not as helpful.

Public Availability of Comments

Before including your address, phone number, electronic mail address, or other personal identifying information in your comment, you should be aware that your entire document—including your personal identifying information—may be publicly available at any time. While you can ask us in your comments to withhold your personal identifying information from public review, we cannot guarantee that we will be able to do so.

Authority: The authority for this action is the Endangered Species Act of 1973 (16 U.S.C. 1531 et seq.).

Dated: September 14, 2007.
Thomas J. Healy,
Acting Regional Director, Region 5, U.S. Fish and Wildlife Service.

[FR Doc. 07-4940 Filed 10-5-07; 8:45 am]

BILLING CODE 4310-55-M